DEPARTMENT OF AGRICULTURE

Agricultural Marketing Service

[Document No. AMS-TM-21-0041]

Meat and Poultry Interstate Shipment and Inspection Readiness Program; Request for Emergency Approval of a New Information Collection

AGENCY: Agricultural Marketing Service, USDA.

ACTION: Notice of emergency request.

SUMMARY: In accordance with the Paperwork Reduction Act of 1995, this notice announces the U.S. Department of Agriculture (USDA), Agricultural Marketing Service's (AMS) intention to receive approval from the Office of Management and Budget (OMB) for a new information collection to administer the Meat and Poultry Interstate Shipment and Inspection Readiness Program (ISIRP) under its Grants Division. Due to the passing of the Consolidated Appropriations Act, 2021 (CAA), AMS Grants Division is implementing this new grant program under section 764, which directs the Secretary of Agriculture to “make grants to meat and poultry slaughter and processing facilities to assist such facilities with respect to costs incurred in making improvements to such facilities and carrying out other planning activities in the amount of $60,000,000 for fiscal years 2021 through 2023.”

DATES: Submit comments on or before May 19, 2021.

ADDRESSES: Interested persons are invited to submit comments concerning this notice by using the electronic process available at www.regulations.gov. Written comments may also be submitted to Grants Division; Transportation and Marketing Program; AMS; USDA; 1400 Independence Avenue SW, Room 2055-South Building, Stop 0201; Washington, DC 20250-0264. All comments should reference the docket number AMS-TM-21-0041, the date of submission, and the page number of this issue of the Federal Register. All comments received will be posted without change, including any personal information provided, at www.regulations.gov and will be included in the record and made available to the public.

FOR FURTHER INFORMATION CONTACT: Nicole Nelson Miller, Deputy Director, Grants Division; (202) 720-2188 or email Nicole.NelsonMiller@usda.gov.

SUPPLEMENTARY INFORMATION:

Overview of This Information Collection

Agency: USDA, AMS.

Title: Meat and Poultry Interstate Shipment and Inspection Readiness Program (ISIRP).

OMB Number: 0581-NEW.

Type of Request: Emergency Approval of a New Information Collection.

Abstract: The Agricultural Marketing Act of 1946 (AMA) (7 U.S.C. 1621 et seq.) directs and authorizes USDA to administer Federal grant programs. AMS Grant Programs are administered through the Office of Management and Budget (OMB) Guidance for Grants and Agreements based on its regulations under the Uniform Administrative Requirements, Cost Principles, and Audit Requirements for Federal Awards (2 CFR part 200) (85 FR 49506; December 13, 2020). The information collection requirements in this emergency request are needed for AMS to administer a new competitive grant program, in accordance with 2 CFR part 200, entitled the Meat and Poultry Interstate Shipment and Inspection Readiness Program (ISIRP) under OMB No. 0581-NEW.

ISIRP is authorized pursuant to the authority of section 764 of the Consolidated Appropriations Act, 2021 (CAA) (Pub. L. 116-260) in response to the ongoing COVID-19 pandemic and supply chain risks in U.S. meat and poultry processing systems. The AMS Grants Division requests to collect information for this new grant program from meat and poultry slaughter and processing facilities to support facilities in making improvements and carrying out other planning activities necessary to obtain a Federal grant of inspection or to operate as a State-inspected facility under the Cooperative Interstate Shipping Program.

Because this is a voluntary program, respondents request or apply for this specific competitive grant, and in doing so, they provide information. The information collected is used only by authorized representatives of USDA, AMS, Transportation and Marketing Program's Grants Division to certify that grant participants are complying with applicable program regulations, and the data collected is the minimum information necessary to effectively carry out the program requirements.

The information collection requirements in this request are essential to carry out the intent of section 764 of the CAA, to provide the respondents the type of service they request, and to administer the program.

Upon OMB approval of the ISIRP information collection package, AMS will request OMB approval to merge this information collection into the currently approved information collection OMB control number 0581-0240 approved on January 13, 2021.

Estimate of Burden: Public reporting burden for this collection of information is estimated to average 2 hours and 5 minutes per response.

Respondents: Grant applicants; or grant recipients.

Estimated Number of Respondents: 4,350.

Estimated Total Annual Responses Including Recordkeeping: 7,350.

Estimated Number of Responses per Respondent: 29.

Estimated Total Annual Burden on Respondents and Recordkeepers: 15,363.17 hours.

Comments are invited on: (1) Whether the proposed collection of information is necessary for the proper performance of the functions of the agency, including whether the information will have practical utility; (2) the accuracy of the agency's estimate of the burden of the new collection of information including the validity of the methodology and assumptions used; (3) ways to enhance the quality, utility, and clarity of the information to be collected; and (4) ways to minimize the burden of the collection of information on those who are to respond, including the use of appropriate automated, electronic, mechanical, or other technological collection techniques or other forms of information technology.

Obtaining OMB's approval of this new information collection enables AMS Grants Division to publish a Request for Applications (RFA) to establish application requirements, the review and approval process, and grant administration procedures, which will enable eligible entities to develop appropriate grant applications for the program so that AMS can adequately evaluate these new proposals and obligate the funds as required by the CAA.

Erin Morris,
Associate Administrator, Agricultural Marketing Service.

[FR Doc. 2021-10490 Filed 5-18-21; 8:45 am]

BILLING CODE P